DEPARTMENT OF TRANSPORTATION

Office of the Secretary

14 CFR Parts 200 and 212

[Docket OST-2002-11741]

Standards for Approving International Charter Flights; Petition of the National Air Carrier Association for Rulemaking

AGENCY: Office of the Secretary, DOT.

ACTION: Petition for rulemaking; request for comments.

SUMMARY: The Department is inviting comments on the petition for rulemaking filed by the National Air Carrier Association (NACA) to add, delete and amend certain provisions of 14 CFR Parts 200 and 212 of the Department's Regulations. In its petition, NACA proposes, among other things, changes in the definitions and standards the Department uses in determining whether to grant or deny foreign air carrier requests to conduct certain types of international charter flights. In order that we may have a complete record on which to base our decision on NACA's petition, we solicit the views of all interested persons and entities, including direct air carriers (both U.S. and foreign), indirect air carriers (both U.S. and foreign), trade associations, labor unions, travel agents, shippers, communities, and the general public, on the proposals set forth in that petition. The proposal is in OST Docket 2002-11741 and can be accessed via the internet by searching Docket 11741 at the DOT Docket website (http://dms.dot.gov). Hard copies may also be obtained by calling the contact person listed below.

DATES: Comments to the Petition for Rulemaking are due May 6, 2002. If comments are filed, reply comments are due June 4, 2002.

ADDRESSES: To make sure your comments and related material are not entered more than once in the docket, please submit them (marked with docket number OST-2002-11741) by only one of the following means:

(1) By mail to the Docket Management Facility, U.S. Department of Transportation, Room PL-401, 400 Seventh Street SW., Washington, DC 20590.

(2) By hand delivery to room PL-401 on the Plaza level of the Nassif Building, 400 Seventh Street SW., Washington, DC, between 9 a.m. and 5 p.m., Monday through Friday, except Federal holidays. The telephone number is 202-366-9329.

(3) Electronically through the Web Site for the Docket Management System at http://dms.dot.gov. Comments must be filed in Docket OST-2002-11741, U.S. Department of Transportation, 400 7th St. SW., Washington, DC 20590. Late filed comments will be considered to the extent possible. Due to security procedures in effect since October 2001 on mail deliveries, mail received through the Postal Service may be subject to delays. Commenters should consider using an express mail firm to ensure the timely filing of any comments not submitted electronically or by hand.

FOR FURTHER INFORMATION CONTACT: Gordon Bingham, Foreign Air Carrier Licensing Division, U.S. Department of Transportation, Room 6412, 400 Seventh Street, SW., Washington, DC 20590. Telephone (202) 366-2404.

Issued in Washington, DC on March 15, 2002.
Read C. Van De Water,
Assistant Secretary for Aviation and International Affairs.

[FR Doc. 02-6820 Filed 3-20-02; 8:45 am]

BILLING CODE 4910-62-P